SOCIAL SECURITY ADMINISTRATION

[Docket No. SSA-2007-2007-0051]

The Ticket To Work and Work Incentives Advisory Panel Meeting

AGENCY: Social Security Administration (SSA).

ACTION: Notice of quarterly meeting.

DATES: July 24, 2007—9 a.m. to 5 p.m.; July 25, 2007—1 p.m. to 5:30 p.m.

ADDRESSES: Sheraton Crystal City Hotel, 1800 Jefferson Davis Highway, Arlington, VA 22202. Phone: 703-486-1111.

SUPPLEMENTARY INFORMATION: Type of meeting: On July 24-25, 2007, the Ticket to Work and Work Incentives Advisory Panel (the “Panel”) will hold a quarterly meeting open to the public.

Purpose: In accordance with section 10(a)(2) of the Federal Advisory Committee Act, the Social Security Administration (SSA) announces a meeting of the Ticket to Work and Work Incentives Advisory Panel. Section 101(f) of Public Law 106-170 establishes the Panel to advise the President, the Congress, and the Commissioner of SSA on issues related to work incentive programs, planning, and assistance for individuals with disabilities as provided under section 101(f)(2)(A) of the TWWIA. The Panel is also to advise the Commissioner on matters specified in section 101(f)(2)(B) of that Act, including certain issues related to the Ticket to Work and Self-Sufficiency Program established under section 101(a) of that Act.

Interested parties are invited to attend the meeting. The Panel will use the meeting time to receive briefings and presentations on matters of interest, conduct full Panel deliberations on the implementation of the Act and receive public testimony.

The Panel will meet in person commencing on Tuesday, July 24, 2007, from 9 a.m. until 5 p.m. The quarterly meeting will continue on Wednesday, July 25, 2007, from 1 p.m. until 5:30 p.m.

Agenda: The full agenda will be posted at least one week before the start of the meeting on the Internet at http://www.ssa.gov/work/panel/meeting_information/agendas.html, or can be received, in advance, electronically or by fax upon request. Public testimony will be heard on Tuesday, July 24, 2007 from 4-5 p.m. Individuals interested in providing testimony in person should contact the Panel staff as outlined below to schedule a time slot. Members of the public must schedule a time slot in order to comment. In the event public comments do not take the entire scheduled time period, the Panel may use that time to deliberate or conduct other Panel business. Each individual providing public comment will be acknowledged by the Chair in the order in which they are scheduled to testify and is limited to a maximum five-minute, verbal presentation.

Full written testimony on the Implementation of the Ticket to Work and Work Incentives Program, no longer than five (5) pages, may be submitted in person or by mail, fax or e-mail on an ongoing basis to the Panel for consideration.

Since seating may be limited, persons interested in providing testimony at the meeting should contact the Panel staff by e-mailing Ms. Tinya White-Taylor, at Tinya.White-Taylor@ssa.gov or by calling (202) 358-6420.

Contact Information: Records are kept of all proceedings and will be available for public inspection by appointment at the Panel office. Anyone requiring information regarding the Panel should contact the staff by:

• Mail addressed to the Social Security Administration, Ticket to Work and Work Incentives Advisory Panel Staff, 400 Virginia Avenue, SW., Suite 700, Washington, DC 20024.

• Telephone contact with Tinya White-Taylor at (202) 358-6420.

• Fax at (202) 358-6440.

• E-mail to TWWIIAPanel@ssa.gov.

Dated: June 28, 2007.
Chris Silanskis,
Designated Federal Officer.

[FR Doc. E7-13132 Filed 7-5-07; 8:45 am]

BILLING CODE 4191-02-P